DEPARTMENT OF DEFENSE

Department of the Navy

Notice of Availability of Records of Decision for the Supplemental Environmental Impact Statement for Land Acquisition and Airspace Establishment To Support Large-Scale Marine Air Ground Task Force Live-Fire and Maneuver Training at Marine Corps Air Ground Combat Center, Twentynine Palms, California

AGENCY: Department of the Navy, Department of Defense; Bureau of Land Management, Department of the Interior.

ACTION: Notice of availability.

SUMMARY: The Department of the Navy (DoN) announces the availability of the Records of Decision (RODs) by the DoN and the Bureau of Land Management (BLM) for the Supplemental Environmental Impact Statement for Land Acquisition and Airspace Establishment to Support Large-Scale Marine Air Ground Task Force Live-Fire and Maneuver Training at Marine Corps Air Ground Combat Center, Twentynine Palms, California. The Principal Deputy Assistant Secretary of the Navy (Energy, Installations and Environment) signed the DoN ROD on February 10, 2017. The BLM California Desert District Manager signed the BLM ROD on February 9, 2017.

ADDRESSES: Copies of the DoN ROD and the BLM ROD, along with the Final SEIS and other supporting documents, are available for public viewing on the DoN's project Web site: www.SEISforLAA.com and on the Combat Center's Web site: www.29palms.marines.mil/Staff/G5-Government-and-External-Affairs/SEISforLAA. The BLM ROD is also available on the agency's ePlanning Web site at: https://eplanning.blm.gov/epl-front-office/eplanning/planAndProjectSite.do?methodName=dispatchToPatternPage&currentPageId=108440. Copies of both RODs are also available at the following public libraries: Newton T. Bass Apple Valley Branch Library, Apple Valley, CA; Barstow Branch Library, Barstow, CA; Palm Springs Public Library, Palm Springs, CA; Stanley Mosk Library and Courts Building, Sacramento, CA; San Bernardino County Library Administrative Offices, San Bernardino, CA; Twentynine Palms Branch Library, Twentynine Palms, CA; Victorville City Library, Victorville, CA; Yucca Valley Branch Library, Yucca Valley, CA; Joshua Tree Branch Library, Joshua Tree, CA; Lucerne Valley Janice Horst Branch Library, Lucerne Valley, CA; Needles Branch Library, Needles, CA; and Ovitt Family Community Library, Ontario, CA.

FOR FURTHER INFORMATION CONTACT: DoN: Mr. Jesse Martinez, Project Manager, SEIS for 29Palms Land Acquisition/Airspace Establishment Project, Naval Facilities Engineering Command Southwest, 1220 Pacific Highway, San Diego, California 92132-5190. Telephone: 619-532-3844. BLM: Ms. Katrina Symons, Field Manager, BLM Barstow Field Office, 2601 Barstow Road, Barstow, CA 92311. Telephone: 760-252-6004.

SUPPLEMENTARY INFORMATION: Pursuant to Section 102(2)(c) of the National Environmental Policy Act (NEPA) of 1969, 42 United States Code 4321-4370h, as implemented by the Council on Environmental Quality regulations, 40 Code of Federal Regulations (CFR) parts 1500-1508, the DoN NEPA regulations (32 CFR part 775), and Marine Corps Order P5090.2A (with Changes 1-3) Marine Corps Environmental Compliance and Protection Manual, Chapter 12, the DoN, after carefully considering the operational and environmental consequences of the proposed action and alternatives analyzed in a Supplemental Environmental Impact Statement (SEIS), announces the availability of its ROD to translocate a population of the federal-listed threatened Agassiz's desert tortoise (Gopherus agassizii, hereinafter “desert tortoise”) from high- and moderate-impact training areas at the Marine Corps Air Ground Combat Center at Twentynine Palms, California (hereinafter, “the Combat Center”). In its ROD, the DoN has selected the preferred alternative (Alternative 2) from the Final SEIS, which provides for the implementation of a June 2016 Desert Tortoise Translocation Plan. The Plan will guide translocation of desert tortoises in accordance with requirements of a January 2017 United States Fish and Wildlife Service (USFWS) Biological Opinion (hereinafter the “2017 BO,” which superseded a previous 2012 BO), and a 2013 DoN ROD associated with the 2012 Final EIS for Land Acquisition and Airspace Establishment to Support Large-Scale Marine Air Ground Task Force Live-Fire and Maneuver Training at the Combat Center (hereinafter the “2012 Final EIS”).

The DoN ROD documents why the DoN has chosen to implement the preferred alternative as described in the 2017 Final SEIS. This decision adopts all of the special conservation measures that were identified in the Final SEIS to avoid or minimize adverse environmental impacts from the preferred alternative. The ROD also includes descriptions and discussions of the anticipated environmental impacts of the proposed action, and responds to substantive comments received since the Final SEIS was released.

The BLM, which served as a Cooperating Agency during preparation of the SEIS, adopted the SEIS and prepared a separate ROD regarding the SEIS actions proposed on BLM-managed lands. The BLM's involvement as a cooperating agency in the development of the SEIS was triggered by its current jurisdiction by law and special expertise over a portion of lands considered for translocation of desert tortoises. The BLM has unique knowledge of the public lands under its management and has the expertise essential to help evaluate appropriate parcels of land to meet translocation requirements. The BLM conducted frequent coordination with DON throughout the SEIS process. The BLM ROD explains the rationale for its independent selection of Alternative 2 (Preferred Alternative) of the SEIS. The BLM decision is subject to a 30-day appeal period commencing with the publication of this Notice. A party that is adversely affected by the BLM's decision may file an appeal in accordance with the procedures in 43 CFR part 4.

Dated: February 21, 2017.
A.M. Nichols,
Lieutenant Commander, Judge Advocate General's Corps, U.S. Navy, Federal Register Liaison Officer.

[FR Doc. 2017-03694 Filed 2-23-17; 8:45 am]

BILLING CODE 3810-FF-P